DEPARTMENT OF EDUCATION

34 CFR Chapter VI

[Docket ID ED-2023-OPE-0123]

Negotiated Rulemaking Committee; Negotiator Nominations and Schedule of Committee Meetings

AGENCY: Office of Postsecondary Education, Department of Education.

ACTION: Intent to establish rulemaking committee.

SUMMARY: We announce our intention to establish a negotiated rulemaking committee to prepare proposed regulations for the Federal Student Aid programs authorized under title IV of the Higher Education Act of 1965, as amended (HEA). The committee will include representatives of organizations or groups with interests that are significantly affected by the subject matter of the proposed regulations. We request nominations for individual negotiators who represent key stakeholder constituencies for the issues to be negotiated to serve on the committee. The Department has also set a schedule for committee meetings.

DATES: We must receive your nominations for negotiators to serve on the committee on or before September 14, 2023. The dates and times of the committee meetings are set out in the Schedule for Negotiations section in the SUPPLEMENTARY INFORMATION section. All meetings will be virtual.

ADDRESSES: Please email your nominations for negotiators to negregnominations@ed.gov. If you are unable to email your nomination, please contact Jean-Didier Gaina. Telephone: (202) 987-1333. Email: Jean-Didier.Gaina@ed.gov.

FOR FURTHER INFORMATION CONTACT: For information about negotiated rulemaking, see “The Negotiated Rulemaking Process for Title IV Regulations—Frequently Asked Questions” at https://www2.ed.gov/policy/highered/reg/hearulemaking/hea08/neg-reg-faq.html. For information about the content of this document, including additional information about the negotiated rulemaking process, please contact Jean-Didier Gaina. Telephone: (202) 987-1333. Email: Jean-Didier.Gaina@ed.gov, for information on the nomination submission process, Email: negregnominations@ed.gov.

If you are deaf, hard of hearing, or have a speech disability and wish to access telecommunications relay services, please dial 7-1-1.

SUPPLEMENTARY INFORMATION:

Background

On July 6, 2023, we published in the Federal Register (88 FR 43069) an announcement of our intent to establish a negotiated rulemaking committee under section 492 of the HEA to develop proposed regulations related to section 432(a) of the HEA, which relate to the modification, waiver, release, or compromise of Federal student loans by the Department. We also announced a public hearing at which interested parties could comment on the topics for negotiation suggested by the Department and suggest additional topics for consideration for action by the negotiated rulemaking committee. That hearing took place virtually on July 18, 2023.

You may view written comments submitted in response to the aforementioned Federal Register notice through the Federal eRulemaking Portal at www.regulations.gov. Instructions for finding comments are available on the site under “FAQ.” Enter Docket ID ED-2023-OPE-0123 in the search box to locate the appropriate docket.

Committee Topics

After considering the information received at the public hearing and the written comments, we have decided to establish the Student Loan Relief Committee (Committee) to address the topics of the authorities granted to the Secretary in the HEA, including the provisions related to the modification, waiver, release, or compromise of Federal student loans in section 432(a) of the HEA. Depending on the outcome of the discussions during negotiated rulemaking and the details of the proposed regulations, different sections in 34 CFR parts 30, 682, and 685 may be revised through the final regulations.

We intend to select negotiators for the Committee who represent the interests of those significantly affected by the topics proposed for negotiation. In so doing, we will comply with the requirement in section 492(b)(1) of the HEA that the individuals selected must have demonstrated expertise or experience in the relevant topics proposed for negotiations. We will also select negotiators who reflect the diversity among program participants, in accordance with section 492(b)(1) of the HEA. Our goal is to establish a committee that will allow significantly affected parties to be represented while keeping the size manageable.

We generally select a primary and alternate negotiator for each constituency represented on a committee. The primary negotiator participates for the purpose of determining consensus. The alternate participates for the purpose of determining consensus in the absence of the primary negotiator. The Department will provide more detailed information to both primary and alternate negotiators selected to participate on the Committee about the logistics and protocols of the meetings.

Members of the public may observe the Committee meetings, will have access to individuals representing their constituencies, and may be able to participate in informal working groups on issues between the meetings. Members of the public will have 30 minutes at the end of each day to provide comments.

Constituencies for Negotiator Nominations

We have identified the following constituencies as having interests that are significantly affected by the topics proposed for negotiation. We plan to include negotiators who represent these constituencies. We particularly encourage individuals or organizations representing the interests of historically underserved or low-income communities to nominate themselves. Nominations should include evidence of the nominee's specific knowledge of the modification, waiver, release, or compromise of Federal student loans. The Department strongly encourages nominees to list all constituencies under which they would like to be considered. The Department reserves the discretion to place a nominee in a constituency based upon their background and experience even if the individual was not nominated for that specific category. Constituencies for the Committee are:

(1) Student loan borrowers who attended programs of two years or less.

(2) Student loan borrowers who attended four-year programs.

(3) Student loan borrowers who attended graduate programs.

(4) Currently enrolled postsecondary education students.

(5) U.S. military service members, veterans, or groups representing them.

(6) Civil rights organizations.

(7) Legal assistance organizations that represent students or borrowers.

(8) State officials, including State higher education executive officers, State authorizing agencies, and State regulators of institutions of higher education.

(9) State attorneys general.

(10) Public institutions of higher education, including two-year and four-year institutions.

(11) Private nonprofit institutions of higher education.

(12) Proprietary institutions.

(13) Historically Black Colleges and Universities, Tribal Colleges and Universities, and Minority-serving institutions (institutions of higher education eligible to receive Federal assistance under title III, parts A and F, and title V of the HEA).

(14) Federal Family Education Loan (FFEL) lenders, servicers, or guaranty agencies.

The Department is particularly interested in ensuring the primary and alternate negotiators who represent the different borrower and student constituencies reflect a variety of experiences with student loans and postsecondary education, including attending different types of institutions, for different types of programs borrowing a Parent PLUS loan to pay for a dependent student's education, borrowing either Direct or FFEL loans, and receiving a Pell grant. We also seek negotiators who have borrowed varied amounts and have varied repayment histories. We encourage nominations that provide the Department with diverse information about borrowing and repayment experiences.

The goal of the committee is to develop proposed regulations that reflect a final consensus of the committee. Consensus means that there is no dissent by any member of a negotiating committee, including the committee member representing the Department.

A negotiator is expected to represent the interests of their constituency and to participate in the negotiations in a manner consistent with the goal of developing proposed regulations on which the committee will reach consensus. If consensus is reached, all members of the organization or group represented by a negotiator are bound by the consensus and are prohibited from commenting negatively on the resulting proposed regulations. The Department will not consider any such negative comments on the proposed regulations that are submitted by a member of such an organization.

Nominations

We request that nominations include the information described in this section.

(1) The name of the nominee;

(2) The name of the constituency (or constituencies) for which the nominee is being nominated (see Constituencies for Negotiator Nominations);

(3) The nominee's place of employment or institution at which they are or were enrolled and, if different, the organization the nominee represents;

(4) A resume or evidence of the nominee's expertise and experience in the topics proposed for negotiations; and

(5) The nominee's contact information, including email address, telephone number, and mailing address.

Please see the ADDRESSES section for submission information. We will confirm receipt of nominations to the submitter. The Department will provide additional information to those we select to serve as negotiators. Once complete, a list of negotiators will be posted here: https://www2.ed.gov/policy/highered/reg/hearulemaking/2023/index.html.

l. The Department will also provide information at that site about how any committee vacancies can be filled at the beginning of the first committee meeting.

Schedule for Negotiations

The Committee will meet for three sessions on the following dates:

Session 1: October 10-11, 2023.

Session 2: November 6-7, 2023.

Session 3: December 11-12, 2023.

Session times will be from 10 a.m. to 12 p.m. and 1 to 4 p.m., with a public comment period from approximately 3:30 to 4 p.m., Eastern time.

All sessions will be conducted virtually and available for the public to view. Individuals who wish to observe the committee meetings will be required to register for each session they would like to observe. We will post registration links closer to the start of negotiations on our website at www2.ed.gov/policy/highered/reg/hearulemaking/2023/index.html. The Department will also post recordings and transcripts of the meetings on that site.

At the end of each day (except for the final day of the final session), the Department will reserve 30 minutes for public comment. We will provide information on how to request time to speak on our website at www2.ed.gov/policy/highered/reg/hearulemaking/2023/index.html.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to this Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site. You may also access the documents of the Department published in the Federal Register by using the article search feature at www.federalregister.gov. Specifically, through the advanced search feature at this site, you can limit your search to documents published by the Department.

Program Authority: 20 U.S.C. 1098a.

Nasser H. Paydar,
Assistant Secretary, Office of Postsecondary Education.

[FR Doc. 2023-18853 Filed 8-30-23; 8:45 am]

BILLING CODE 4000-01-P